DEPARTMENT OF ENERGY

Federal Energy Regulatory Commission

Combined Notice of Filings

October 3, 2008.

Take notice that the Commission has received the following Natural Gas Pipeline Rate and Refund Report filings:

Docket Numbers: RP91-203-075, RP92-132-063.

Applicants: Tennessee Gas Pipeline Company.

Description: Tennessee Gas Pipeline Company submits a report re the status of Tennessee's discussions with their customers concerning the development of a mutually agreeable solution to address the over-collections.

Filed Date: 10/01/2008.

Accession Number: 20081003-0033.

Comment Date: 5 p.m. Eastern Time on Tuesday, October 14, 2008.

Docket Numbers: RP99-301-225.

Applicants: ANR Pipeline Company.

Description: ANR Pipeline Company submits an amendment to Rate Schedule FTS-1 negotiated rate agreement with Nexen Marketing USA Inc (Contract 113035), to be effective 11/1/08.

Filed Date: 09/26/2008.

Accession Number: 20081001-0058.

Comment Date: 5 p.m. Eastern Time on Wednesday, October 8, 2008.

Docket Numbers: RP00-70-020.

Applicants: Algonquin Gas Transmission Company.

Description: Algonquin Gas Transmission, LLC submits Original Sheet No. 89 et al. to FERC Gas Tariff, Fifth Revised Volume No. 1, to be effective 11/1/08.

Filed Date: 10/01/2008.

Accession Number: 20081003-0118.

Comment Date: 5 p.m. Eastern Time on Tuesday, October 14, 2008.

Docket Numbers: RP96-200-197.

Applicants: CenterPoint Energy Gas Transmission Co.

Description: CenterPoint Energy Gas Transmission Company submits a negotiated rate agreement with XTO Energy Inc.

Filed Date: 10/01/2008.

Accession Number: 20081003-0120.

Comment Date: 5 p.m. Eastern Time on Tuesday, October 14, 2008.

Docket Numbers: RP97-13-033.

Applicants: East Tennessee Natural Gas, LLC.

Description: East Tennessee Natural Gas, LLC submits Original Sheet 31 et al. of its FERC Gas Tariff, Third Revised Volume 1 to be effective 10/1/08.

Filed Date: 10/01/2008.

Accession Number: 20081003-0119.

Comment Date: 5 p.m. Eastern Time on Tuesday, October 14, 2008.

Docket Numbers: RP99-480-022.

Applicants: Texas Eastern Transmission LP.

Description: Texas Eastern Transmission, LP submits First Revised Sheet No. 17 et al. to FERC Gas Tariff, Seventh Revised Volume No. 1, to be effective 11/1/08.

Filed Date: 10/01/2008.

Accession Number: 20081003-0302.

Comment Date: 5 p.m. Eastern Time on Tuesday, October 14, 2008.

Docket Numbers: RP03-36-036.

Applicants: Dauphin Island Gathering Partners.

Description: Dauphin Island Gathering Partners submits its Fortieth Revised Sheet 9 to FERC Gas Tariff, First Revised Volume 1, to be effective 10/1/08.

Filed Date: 10/01/2008.

Accession Number: 20081003-0038.

Comment Date: 5 p.m. Eastern Time on Tuesday, October 14, 2008.

Docket Numbers: RP08-646-000.

Applicants: Dominion Transmission, Inc.

Description: Dominion Transmission, Inc. submits Thirty-Seventh Revised Sheet No. 31 et al. to FERC Gas Tariff, Third Revised Volume No. 1.

Filed Date: 09/30/2008.

Accession Number: 20081001-0115.

Comment Date: 5 p.m. Eastern Time on Tuesday, October 14, 2008.

Docket Numbers: RP08-647-000.

Applicants: Cameron Interstate Pipeline, LLC.

Description: Cameron Interstate Pipeline LLC submits Original Sheet 1 et al. to FERC Gas Tariff, Original Volume 1 effective 11/1/08.

Filed Date: 09/30/2008.

Accession Number: 20081003-0035.

Comment Date: 5 p.m. Eastern Time on Tuesday, October 14, 2008.

Docket Numbers: RP09-1-000.

Applicants: Northern Natural Gas Company.

Description: Northern Natural Gas Co. submits its 14th Revised Sheet 66C et al. to FERC Gas Tariff, Fifth Revised Volume 1, to be effective 11/1/08.

Filed Date: 10/01/2008.

Accession Number: 20081003-0039.

Comment Date: 5 p.m. Eastern Time on Tuesday, October 14, 2008.

Docket Numbers: RP09-2-000.

Applicants: Portland Natural Gas Transmission System.

Description: Portland Natural Gas Transmission System submits Fifth Revised Sheet 100 et al. to FERC Gas Tariff, Original Volume 1.

Filed Date: 10/01/2008.

Accession Number: 20081003-0041.

Comment Date: 5 p.m. Eastern Time on Tuesday, October 14, 2008.

Docket Numbers: RP09-3-000.

Applicants: Texas Gas Transmission, LLC.

Description: Texas Gas Transmission LLC's First Revised Sheet 36 et al. to FERC Gas Tariff, Third Revised Volume 1.

Filed Date: 10/01/2008.

Accession Number: 20081003-0040.

Comment Date: 5 p.m. Eastern Time on Tuesday, October 14, 2008.

Docket Numbers: RP09-4-000.

Applicants: Cameron Interstate Pipeline, LLC.

Description: Cameron Interstate Pipeline, LLC submits First Revised Sheet 80 (Superseding First Original Sheet 80) to its FERC Gas Tariff, Original Volume 1 to be effective 11/1/08.

Filed Date: 10/01/2008.

Accession Number: 20081003-0042.

Comment Date: 5 p.m. Eastern Time on Tuesday, October 14, 2008.

Docket Numbers: RP09-5-000.

Applicants: Maritimes & Northeast Pipeline, L.L.C.

Description: Maritimes & Northeast Pipeline LLC submits Twelfth Revised Sheet 11 to FERC Gas Tariff, First Revised Volume 1, to be effective 11/1/08.

Filed Date: 10/01/2008.

Accession Number: 20081003-0201.

Comment Date: 5 p.m. Eastern Time on Tuesday, October 14, 2008.

Docket Numbers: RP09-6-000.

Applicants: Trunkline Gas Company, LLC.

Description: Trunkline Gas Company LLC submits Eighteenth Revised Sheet 10 et al. to FERC Gas Tariff, Third Revised Volume 1, to be effective 11/1/08.

Filed Date: 10/01/2008.

Accession Number: 20081003-0202.

Comment Date: 5 p.m. Eastern Time on Tuesday, October 14, 2008.

Docket Numbers: RP09-7-000.

Applicants: Texas Gas Transmission, LLC.

Description: Second Revised Sheet 2102 et al. to FERC Electric Gas, Third Revised Volume 1.

Filed Date: 10/01/2008.

Accession Number: 20081003-0203.

Comment Date: 5 p.m. Eastern Time on Tuesday, October 14, 2008.

Docket Numbers: RP09-8-000.

Applicants: Tuscarora Gas Transmission Company.

Description: Tuscarora Gas Transmission Co its entire FERC Gas Tariff, First Revised Volume 1 which replaces the Original Volume 1, Part 1 of 3.

Filed Date: 10/01/2008.

Accession Number: 20081003-0043.

Comment Date: 5 p.m. Eastern Time on Tuesday, October 14, 2008.

Docket Numbers: RP09-9-000.

Applicants: Panhandle Eastern Pipe Line Company, LP.

Description: Panhandle Eastern Pipe Line Company LP submits Twentieth Revised Sheet 4 et al. to FERC Gas Tariff, Third Revised Volume 1, to be effective 11/1/08.

Filed Date: 10/01/2008.

Accession Number: 20081003-0204.

Comment Date: 5 p.m. Eastern Time on Tuesday, October 14, 2008.

Docket Numbers: RP09-10-000.

Applicants: Liberty Gas Storage.

Description: Liberty Gas Storage Company, LLC submits First Revised Sheet 132 to its FERC Gas Tariff, Original Volume 1, to be effective 11/1/8.

Filed Date: 10/01/2008.

Accession Number: 20081003-0205.

Comment Date: 5 p.m. Eastern Time on Tuesday, October 14, 2008.

Docket Numbers: RP09-11-000.

Applicants: Guardian Pipeline, LLC.

Description: Guardian Pipeline LLC submits Sixteenth Revised Sheet 5, FERC Gas Tariff Original Volume 1, to be effective 11/1/08.

Filed Date: 10/01/2008.

Accession Number: 20081003-0206.

Comment Date: 5 p.m. Eastern Time on Tuesday, October 14, 2008.

Docket Numbers: RP09-12-000.

Applicants: Southwest Gas Storage Company.

Description: Southwest Gas Storage Co submits Twenty-Fourth Revised Sheet No. 5 to FERC Gas Tariff, First Revised Volume No. 1 to be effective 11/1/08.

Filed Date: 10/01/2008.

Accession Number: 20081003-0207.

Comment Date: 5 p.m. Eastern Time on Tuesday, October 14, 2008.

Docket Numbers: RP09-13-000.

Applicants: National Fuel Gas Supply Corporation.

Description: National Fuel Gas Supply Corporation submits Fifteenth Revised Sheet 478 with an effective date of 1/1/08 and a market version of Amendment III to Service Agreement F02092 with United Refining Company.

Filed Date: 10/01/2008.

Accession Number: 20081003-0208.

Comment Date: 5 p.m. Eastern Time on Tuesday, October 14, 2008.

Docket Numbers: RP09-14-000.

Applicants: Viking Gas Transmission Company.

Description: Viking Gas Transmission Co submits Twenty-Fourth Revised Sheet 5B to FERC Gas Tariff, First Revised Volume 1.

Filed Date: 10/01/2008.

Accession Number: 20081003-0209.

Comment Date: 5 p.m. Eastern Time on Tuesday, October 14, 2008.

Docket Numbers: CP06-76-004.

Applicants: Algonquin Gas Transmission, LLC.

Description: Algonquin Gas Transmission, LLC submits its Seventh Revised Sheet 24 to FERC Gas Tariff, Fifth Revised Volume 1, to be effective 11/1/08.

Filed Date: 09/30/2008.

Accession Number: 20081003-0037.

Comment Date: 5 p.m. Eastern Time on Tuesday, October 14, 2008.

Docket Numbers: CP06-115-004.

Applicants: Texas Eastern Transmission, LP.

Description: Texas Eastern Transmission, LP submits Third Revised Sheet 35B, to FERC Gas Tariff, Seventh Revised Volume 1.

Filed Date: 09/30/2008.

Accession Number: 20081003-0036.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-23899 Filed 10-8-08; 8:45 am]

BILLING CODE 6717-01-P